DEPARTMENT OF THE INTERIOR

Bureau of Land Management

[LLES964000.L54100000.FR0000]

Notice of Realty Action: Application for Conveyance of Federally Owned Mineral Interests in Lee County, FL

AGENCY: Bureau of Land Management, Interior.

ACTION: Notice of realty action.

SUMMARY: The Bureau of Land Management (BLM) is processing an application under the Federal Land Policy and Management Act of 1976 (FLPMA), to convey the undivided phosphate mineral interest owned by the United States in 160 acres located in Lee County, Florida, to the surface owner, Stonewater II, LLC, a Michigan Limited Liability Company. The fair market value of the phosphate mineral interest has been determined to be $4,000.

DATES: Interested persons may submit written comments to the BLM at the address listed below. Comments must be received no later than January 3, 2017.

ADDRESSES: Bureau of Land Management, Eastern States State Office, 20 M Street SE., Suite 950, Washington, DC 20003. Detailed information concerning this action is available for review at this address.

FOR FURTHER INFORMATION CONTACT: Charles Johnson, Land Law Examiner, by telephone at 202-912-7737 or by email at c35johns@blm.gov. Persons who use a telecommunications device for the deaf (TDD) may call the Federal Relay Service at 1-800-877-8339 to contact the above individuals during normal business hours. The Service is available 24 hours a day, 7 days a week, to leave a message or question for the above individuals. You will receive a reply during normal business hours.

SUPPLEMENTARY INFORMATION: Stonewater II, LLC, the surface owner, has applied to purchase the undivided federally owned phosphate mineral interest located in Lee County, Florida, in a parcel described as follows:

Tallahassee Meridian, Florida

T. 44 S., R. 23 E.,

sec. 10, NE¼.

The area described contains 160 acres.

As required under Section 209(3)(i) of FLPMA, the applicant deposited a sum of money determined sufficient to cover administrative costs, including, but not limited to, the cost for the Mineral Potential Report. The objective of Section 209 is to allow consolidation of the surface and mineral interests when either one of the following conditions exists: (1) There are no known mineral values in the land; or (2) Where continued Federal ownership of the mineral interests interferes with or precludes appropriate non-mineral development and such development is a more beneficial use of the land than mineral development.

Stonewater II, LLC, a Michigan Limited Liability Company, the surface owner, filed an application for the conveyance of federally owned phosphate mineral interests in the above-described tract of land, subject to valid existing rights.

On November 18, 2016 the federally owned mineral interests in the lands described above are hereby segregated from all forms of appropriation under the public land laws, including the mining laws, while the application is being processed to determine if either one of the two specified conditions exists and, if so, to otherwise comply with the procedural requirements of 43 CFR part 2720. The segregation shall terminate: (1) Upon issuance of a patent or other document of conveyance as to such mineral interests; (2) upon final rejection of the application; or (3) on November 19, 2018, whichever occurs first.

Please submit all comments in writing to the address listed above.

Before including your address, phone number, email address, or other personal identifying information in your comment, you should be aware that your entire comment, including your personal identifying information, may be made available to the public at any time. While you can ask in your comment to withhold your personal identifying information from public review, we cannot guarantee that we will be able to do so.

Authority: 43 CFR 2720.1-1(b).

Karen Mouritsen,
State Director, Eastern States Office.

[FR Doc. 2016-27868 Filed 11-17-16; 8:45 am]

BILLING CODE 4310-GJ-P